DEPARTMENT OF THE INTERIOR

Bureau of Land Management

[LLUT01000-09-L51010000-ER0000-24-1A00]

Notice of Availability of the Record of Decision for the Approved Pony Express Resource Management Plan Amendment/Mona to Oquirrh Transmission Corridor Project Environmental Impact Statement

AGENCY: Bureau of Land Management, Interior.

ACTION: Notice of availability.

SUMMARY: The Bureau of Land Management (BLM) announces the availability of the Record of Decision (ROD) for the Approved Pony Express Resource Management Plan (RMP) Amendment and the Mona to Oquirrh Transmission Corridor Project located in Juab, Salt Lake, Tooele, and Utah counties in Utah. The Utah State Director signed the ROD on February 4, 2011, which constitutes the final decision of the BLM. The Approved Pony Express RMP Amendment is effective immediately.

ADDRESSES: Copies of the ROD/Approved Pony Express RMP Amendment are available for public inspection at the Salt Lake Field Office, Bureau of Land Management, 2370 South 2300 West, Salt Lake City, Utah 84119, and the Fillmore Field Office, Bureau of Land Management, 35 East 500 North, Fillmore, Utah 84631, or via the internet at: http://www.blm.gov/ut/st/en/fo/salt_lake/planning/mona_to_oquirrh_transmission.html.

FOR FURTHER INFORMATION CONTACT: For further information contact Cindy Ledbetter, NEPA/Planning Coordinator, by telephone at (801) 977-4300; or by mail at 2370 South 2300 West, Salt Lake City, UT, 84119.

SUPPLEMENTARY INFORMATION: After extensive environmental analysis, consideration of public comments, and application of pertinent Federal laws and policies, it is the decision of the BLM to issue a right-of-way grant to Rocky Mountain Power for the construction, operation, and maintenance of approximately 35 miles of single-circuit 500 kilovolt (kV) and 0.25 mile of double-circuit 345kV transmission line, one new 500/345/138kV substation, ancillary facilities, and access roads for the construction of the project across public lands administered by the BLM West Desert District; and to amend the Pony Express RMP. The right-of-way grant will authorize the use of public lands for the project for a term of 30 years, which is subject to renewal. The Approved Pony Express RMP Amendment allows for the issuance of a major right-of-way outside of a designated corridor on public lands administered by the BLM Salt Lake Field Office in Salt Lake, Tooele, and Utah counties, Utah.

The BLM and Environmental Protection Agency (EPA) each published a Notice of Availability (NOA) of the Draft Environmental Impact Statement (EIS)/Draft Pony Express RMP Amendment for public review and comment in the Federal Register on May 15, 2009, which initiated a 90-day public comment period. The comment period ended on August 12, 2009. The BLM received 235 submittals containing comments from Federal, State, and local governments; public and private organizations; and private citizens. The comments in each submittal were identified, analyzed, and addressed in the Final EIS.

The Final EIS analyzed 14 transmission line route alternatives and disclosed impacts associated with these alternatives, including the BLM's Preferred Alternative on Federal Lands, the Environmentally Preferred Alternative, the Proponent's Proposed Action, and the No Action Alternative. The BLM's decision authorizes issuance of a right-of-way grant to Rocky Mountain Power for the BLM's Preferred Alternative on BLM administered lands, as analyzed in the Final EIS. Updated wilderness characteristics inventories were used during the planning process for this amendment. Land with wilderness characteristics is not present along the right-of-way approved in this ROD.

The BLM published an NOA of the Final EIS/Proposed Pony Express RMP Amendment for public review and comment in the Federal Register on April 23, 2010, and the EPA published the NOA in the Federal Register on April 26, 2010.

After publication of the Final EIS/Proposed Pony Express RMP Amendment, 14 protests on the Proposed Pony Express RMP Amendment were received during the 30-day protest period beginning April 26, 2010, and ending on May 25, 2010, pursuant to 43 CFR 1610.5-2. Each of the 14 protests were either dismissed or denied by the BLM Director.

The Utah Governor's Office did not identify any inconsistencies between the project Final EIS/Proposed Pony Express RMP Amendment and state or local plans, policies, and programs during the 60-day Governor's Consistency Review, initiated April 28, 2010, in accordance with planning regulations at 43 CFR 1610.3-2(e). As a result of the Governor's Consistency Review, only minor editorial modifications were made in preparing the Approved Pony Express RMP Amendment. These modifications provided further clarification on some of the decisions.

Any party adversely affected by the decision on the right-of-way application may appeal within 30 days of publication of this NOA, pursuant to 43 CFR Part 4 subpart E., and 43 CFR 2801.10. If you wish to file a petition for a stay of effectiveness of the right-of-way decision during the time your appeal is being reviewed by the Interior Board of Appeals, the petition for a stay must accompany your Notice of Appeal (43 CFR 4.21 or 43 CFR 2801.10). The appeal and petition for a stay (if requested) must be filed with the Utah State Director at BLM, Utah State Office, P.O. Box 45155, Salt Lake City, Utah, 84145-0155, within 30 days of publication of this NOA. The appeal should state the specific decision(s) in the ROD which is being appealed. Please consult the appropriate regulations (43 CFR part 4, subpart E) for further appeal requirements.

Juan Palma,
State Director.

[FR Doc. 2011-2993 Filed 2-9-11; 8:45 am]

BILLING CODE 4310-DQ-P